SURFACE TRANSPORTATION BOARD

[Docket No. AB 882 (Sub-No. 4X)]

Minnesota Commercial Railway Company—Discontinuance of Trackage Rights Exemption—in Anoka, Hennepin, Ramsey, and Washington Counties, Minn.

Minnesota Commercial Railway Company (MNNR) has filed a verified notice of exemption under 49 CFR part 1152 subpart F—Exempt Abandonments and Discontinuances of Service to discontinue trackage rights over approximately 36.1 miles of contiguous railroad lines, extending generally from BNSF Railway Company's (BNSF) Northtown Yard in Minneapolis, Minn., to Bayport, Minn. (the Line).¹ The Line consists of: (1) A line segment approximately 11.1 miles in length owned by BNSF extending from milepost 12.5 at Northtown Yard (on BNSF's Staples Subdivision) to milepost 1.4 at Westminster Junction, Minn. (on BNSF's Midway Subdivision); (2) a line segment approximately 3.5 miles in length owned by BNSF extending from milepost 11.4 at University (on BNSF's Staples Subdivision) to milepost 7.9 at Park Junction, Minn. (on BNSF's St. Paul Subdivision); ² and (3) a line segment approximately 21.5 miles in length owned by Union Pacific Railroad Company (UP) extending from BNSF milepost 1.4 (Midway Subdivision)/UP milepost 1.0 (on UP's Altoona Subdivision) at Westminster Junction to milepost 2.5 at Bayport (on UP's Stillwater Industrial Lead). The Line traverses U.S. Postal Service Zip Codes 55003, 55042, 55082, 55101, 55103, 55104, 55106, 55108, 55114, 55117, 55119, 55128, 55130, 55413, 55414, 55418, 55421, and 55455.

¹ These trackage rights were acquired by MNNR as part of a larger bundle of trackage rights from Burlington Northern Railroad Company, for which MNNR obtained authority in 1990. Minn. Commercial Ry.—Trackage Rights Exemption—Burlington N. R.R., FD 31603 (ICC served Feb. 26, 1990). In 2005, MNNR obtained authority to discontinue trackage rights over one of the line segments for which it had acquired trackage rights. Minn. Commercial Ry.—Discontinuance of Trackage Rights Exemption—in Wash. Cty., Minn, AB 882 (Sub-No. 2X) (STB served Dec. 13, 2005).

² MNNR states that a discrepancy in the milepost description for this segment appears to have existed since its original filings in Docket No. FD 31603. See also Minnesota Commercial Railway, FD 31603, slip op. at 1 (describing trackage rights between “Northtown Yard (milepost 12.5) and Park Junction (milepost 7.9), approximately 4.6 miles”).

MNNR has certified that: (1) It has handled no local traffic over the Line for at least two years; (2) it has handled no overhead traffic over the Line for at least two years (and thus there is none to be rerouted over other lines); (3) no formal complaint by a user of MNNR rail service on the Line (or by a state or local government entity acting on behalf of such user) regarding cessation of service on the Line is pending either with the Surface Transportation Board (Board) or with any U.S. District Court or has been decided in favor of such complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ³ to subsidize continued rail service has been received, this exemption will be effective on June 19, 2020, unless stayed pending reconsideration. Petitions to stay that do not involve environmental issues must be filed by May 29, 2020, and formal expressions of intent to file an OFA to subsidize continued rail service under 49 CFR 1152.27(c)(2) ⁴ must be filed by June 1, 2020.⁵ Petitions to reopen must be filed by June 9, 2020, with the Surface Transportation Board, 395 E Street SW, Washington, DC 20423-0001.

³ Persons interested in submitting an OFA to subsidize continued rail service must first file a formal expression of intent to file an offer, indicating the intent to file an OFA for subsidy and demonstrating that they are preliminarily financially responsible. See 49 CFR 1152.27(c)(2)(i).

⁴ The filing fee for OFAs can be found at 49 CFR 1002.2(f)(25).

⁵ Because this is a discontinuance proceeding and not an abandonment, interim trail use/rail banking and public use conditions are not appropriate. Because there will be an environmental review during abandonment, this discontinuance does not require an environmental review.

A copy of any petition filed with the Board should be sent to MNNR's representative, Robert A. Wimbish, Fletcher & Sippel LLC, 29 North Wacker Drive, Suite 800, Chicago, IL 60606-3208.

If the verified notice contains false or misleading information, the exemption is void ab initio.

Board decisions and notices are available at www.stb.gov.

Decided: May 14, 2020.
By the Board, Allison C. Davis, Director, Office of Proceedings.
Brendetta Jones,
Clearance Clerk.

[FR Doc. 2020-10803 Filed 5-19-20; 8:45 am]

BILLING CODE 4915-01-P